DEPARTMENT OF THE TREASURY

Office of the Comptroller of the Currency

Agency Information Collection Activities: Proposed Extension of Information Collection; Comment Request

AGENCY: Office of the Comptroller of the Currency (OCC), Treasury.

ACTION: Notice and request for comment.

SUMMARY: The OCC, as part of its continuing effort to reduce paperwork and respondent burden, invites the general public and other Federal agencies to comment on the proposed extension, without revision, of a continuing information collection, as required by the Paperwork Reduction Act of 1995. The OCC may not conduct or sponsor, and a respondent is not required to respond to, an information collection unless it displays a currently valid Office of Management and Budget (OMB) control number. Currently, the OCC is soliciting comment concerning the proposed extension, without change, of OMB approval of an information collection titled, “Lending Limits—12 CFR 32.”

DATES: Comments should be submitted by February 9, 2004.

ADDRESSES: Comments should be directed to the OCC and to the OMB Desk Officer for OCC as follows:

OCC: Office of the Comptroller of the Currency, Public Information Room, 250 E Street, SW., Mail Stop 1-5, Attention: 1557-0221, Washington, DC 20219. Commenters are encouraged to submit comments by fax or electronic mail. Comments may be sent by fax to (202) 874-4448, or by electronic mail to regs.comments@occ.treas.gov. You can inspect and photocopy comments at the OCC's Public Information Room. You can make an appointment to inspect the comments by calling (202) 874-5043.

OMB Desk Officer for OCC: Joseph F. Lackey, Jr., Office of Information and Regulatory Affairs, Office of Management and Budget, New Executive Office Building, Room 10235, Washington, DC 20503, or e-mail to jlackeyj@omb.eop.gov.

FOR FURTHER INFORMATION CONTACT: You may request additional information from John Ference or Camille Dixon, (202) 874-5090, Legislative and Regulatory Activities Division, Office of the Comptroller of the Currency, 250 E Street, SW., Washington, DC 20219.

SUPPLEMENTARY INFORMATION:

Title: Lending Limits—12 CFR 32.

Type of Review: Extension, without revision, of a currently approved collection.

OMB Control Number: 1557-0221.

Form Number: None.

Abstract: The information collections are found in 12 CFR 32.7(b). The information collections apply generally to all national banks and specifically to those national banks that wish to use exceptions to OCC's lending limits for 1-4 family residential real estate loans and loans to small businesses.

Affected Public: Businesses or other for-profit.

Burden Estimates:

Estimated Number of Respondents: 2,140.

Estimated Number of Responses: 2,140.

Estimated Annual Burden Hours: 55,640 hours.

Frequency of Response: On occasion.

Comments: Comments submitted in response to this notice will be summarized in the request for OMB approval. All comments will become a matter of public record. Comments are invited on:

(a) Whether the collection is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: December 4, 2003.
Mark J. Tenhundfeld,
Assistant Director, Legislative and Regulatory Activities Division, Office of the Comptroller of the Currency.

[FR Doc. 03-30618 Filed 12-9-03; 8:45 am]

BILLING CODE 4810-33-P